DEPARTMENT OF DEFENSE

Department of the Navy

[Docket ID USN-2014-0002]

Privacy Act of 1974; System of Records

AGENCY: Department of the Navy, DoD.

ACTION: Notice to alter a System of Records.

SUMMARY: The Department of the Navy proposes to alter the system of records, N01070-13, entitled “Navy Mobilization Processing System”, in its inventory of record systems subject to the Privacy Act of 1974, as amended. This system will be used to provide end-to-end command visibility and control of integrated augmentation processes and automated work-flow; for requesting manpower requirements, approving requirements, sourcing requirements, and writing orders for requirements; tracking, accounting, data collection, and coordination during activation/deactivation.

DATES: This proposed action will be effective on February 10, 2014 unless comments are received which result in a contrary determination. Comments will be accepted on or before February 10, 2014.

ADDRESSES: You may submit comments, identified by docket number and title, by any of the following methods:

• Federal Rulemaking Portal: http://www.regulations.gov. Follow the instructions for submitting comments.

• Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Robin Patterson, Head, PA/FOIA Office (DNS-36), Department of the Navy, 2000 Navy Pentagon, Washington, DC 20350-2000, or by phone at (202) 685-6545.

SUPPLEMENTARY INFORMATION: The Department of the Navy's notices for systems of records subject to the Privacy Act of 1974 (5 U.S.C. 552a), as amended, have been published in the Federal Register and are available from the address in FOR FURTHER INFORMATION CONTACT or from the Defense Privacy and Civil Liberties Office Web site at http://dpclo.defense.gov/privacy/SORNs/component/navy/index.html.

The proposed system report, as required by 5 U.S.C. 552a(r) of the Privacy Act of 1974, as amended, was submitted on December 11, 2013, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: January 6, 2014.
Aaron Siegel,
Alternate OSD Federal Register Liaison Officer, Department of Defense.

N01070-13

System name:

Navy-Marine Corps Mobilization Processing System (NMCMPS) (April 11, 2007, 72 FR 18215).

Changes:

* * * * *

System name:

Delete entry and replace with “Navy Mobilization Processing System.”

System location:

Delete entry and replace with “Primary System Headquarters, Navy Personnel Command, Augmentation Management Division (PERS-46), 5720 Integrity Drive, Millington, TN 38055-4000.

Decentralized Segments—Operational elements of the Department of the Navy. Official mailing addresses are published in the Standard Navy Distribution List that is available as an appendix to the Navy's compilation of system of records notices.”

Categories of individuals covered by the system:

Delete entry and replace with “All Navy active component and reserve component personnel in support of contingency operations and all Navy reserve component personnel in receipt of Active Duty for Special Work orders.”

Categories of records in the system:

Delete entry and replace with “Name, Social Security Number (SSN), DoD ID number, rate/rank, record of assignment, order request ID, mailing/home/work addresses, home/work/mobile telephone numbers, qualification designation codes; command information to include ultimate duty station's name and address, augmentation type, Boots on Ground (BOG) location name, location code, requirement tracking number, reported begin and end date, and projected end date; Unit Identification Code (UIC), Navy Enlisted Code/Designator, military status, date reported to command, date departed command, training, and military orders.”

Authority for maintenance of the system:

Delete entry and replace with “5 U.S.C. 301, Departmental Regulations; 10 U.S.C. 5013, Secretary of the Navy; OPNAVINST 3060.7B, Navy Manpower Mobilization/Demobilization Guide (Appendix D); OPNAVINST 1001.24, Individual Augmentation (IA) Policy and Procedures; and E.O. 9397 (SSN), as amended.”

Purpose:

Delete entry and replace with “To provide end-to-end command visibility and control of integrated augmentation processes and automated work-flow, for requesting manpower requirements, approving requirements, sourcing requirements, and writing orders for requirements, tracking, accounting, data collection, and coordination during activation/deactivation. This includes the mobilization and demobilization of Reserve Component personnel and the temporary reassignment of Active Component personnel for emergent manpower requirements. It allows administrative, operational, and ad-hoc Task Force based Chain-of-Command duty stations direct access via the web to monitor manpower requests and personnel augmenting their commands.”

* * * * *

Retrievability:

Delete entry and replace with “Records are retrieved by Name, SSN, DoD ID number, or order request ID.”

Safeguards:

Delete entry and replace with “Password controlled system, paper/electronic file, and element access based on predefined need-to-know. Physical access to terminals, terminal rooms, buildings and activities grounds are controlled by locked terminals and rooms, guards, personnel screening and visitor registers. Paper records downloaded from the database are labeled by default with properly in accordance with level of classification and “For Official Use Only”.”

Retention and disposal:

Delete entry and replace with “Permanent: Records are submitted to Navy Personnel Command to be entered into the Electronic Military Personnel Records System (EMPRS). Records of retired or former personnel are then transferred to National Personnel Records Center, Military Personnel Records, 9700 Page Avenue, St. Louis, MO 63132-5100, and held for 62 years after retirement or separation from the U.S. Navy. Records are transferred to the National Archives and Records Administration for permanent retention 62 years after separation of service member.”

System Manager(s) and address:

Delete entry and replace with “Policy Official, Commander, Navy Personnel Command (PERS-4G), 5720 Integrity Drive, Millington, TN 38055-4000.

Commanding Officers, Officers in Charge, and Heads of Department of the Navy activities. Organizational elements of the Department of the Navy. Official mailing addresses are published in the Standard Navy Distribution List that is available as an appendix to the Navy's compilation of system of records notices.

National Personnel Records Center, Military Personnel Records, 9700 Page Avenue, St. Louis, MO 63132-5100, for records of retired or former personnel 62 years after retirement or discharge from the U.S. Navy.”

Notification Procedure:

Delete entry and replace with “Individuals seeking to determine whether this system of records contains information about themselves should address written inquiries to the Bureau of Naval Personnel Online by using https://www.bol.navy.mil/.

Inquiries regarding permanent records of all active duty and reserve members (except Individual Ready Reserve (IRR)), former members discharged, deceased, or retired since 1995, should be addressed to the Commander, Navy Personnel Command (PERS-312), 5720 Integrity Drive, Millington, TN 38055-3120.

Inquiries regarding records of former members discharged, deceased, or retired before 1995 should be addressed to the Director, National Personnel Records Center, Military Personnel Records, 9700 Page Avenue, St. Louis, MO 63132-5100 or at Web site http://www.archives.gov/veterans/military-service-records/index.html to obtain guidance on how to access records.

This request should contain full name, SSN, and address of the individual concerned and should be signed. The system manager may require an original signature or a notarized signature as a means of proving the identity of the individual requesting access to the records.”

Record access procedures:

Delete entry and replace with “Individuals seeking to access information about themselves contained in this system should address written inquiries to the Bureau of Naval Personnel Online by using https://www.bol.navy.mil/.

Inquiries regarding permanent records of all active duty and reserve members (except Individual Ready Reserve (IRR)), former members discharged, deceased, or retired since 1995, should be addressed to the Commander, Navy Personnel Command (PERS-312), 5720 Integrity Drive, Millington, TN 38055-3120.

Inquiries regarding records of former members discharged, deceased, or retired before 1995 should be addressed to the Director, National Personnel Records Center, Military Personnel Records, 9700 Page Avenue, St. Louis, MO 63132-5100 or at Web site http://www.archives.gov/veterans/military-service-records/index.html to obtain guidance on how to access records.

This request should contain full name, SSN, and address of the individual concerned and should be signed. The system manager may require an original signature or a notarized signature as a means of proving the identity of the individual requesting access to the records.”

* * * * *

[FR Doc. 2014-00161 Filed 1-9-14; 8:45 am]

BILLING CODE 5001-06-P